DEPARTMENT OF COMMERCE

National Oceanic and Atmospheric Administration

RIN 0648-XF496

Caribbean Fishery Management Council; Public Meeting

AGENCY: National Marine Fisheries Service (NMFS), National Oceanic and Atmospheric Administration (NOAA), Commerce.

ACTION: Notice of a public meeting.

SUMMARY: The Caribbean Fishery Management Council's District Advisory Panels (DAPs) for Puerto Rico, St. Croix and St. Thomas/St. John, USVI, will hold a joint meeting.

DATES: The meeting will be held on Thursday, July 6, 2017, from 9:30 a.m. to 5 p.m.

ADDRESSES: The meeting will be held at the Verdanza Hotel, Tartak St., Isla Verde, Puerto Rico.

FOR FURTHER INFORMATION CONTACT: Caribbean Fishery Management Council, 270 Muñoz Rivera Avenue, Suite 401, San Juan, Puerto Rico 00918, telephone: (787) 766-5926.

SUPPLEMENTARY INFORMATION: The DAPs will meet to discuss the items contained in the following agenda:

July 6, 2017, 9 a.m.

—Call to Order and Welcome—Miguel A. Rolón

—General Concepts (Scalars, Buffers, Scientific Uncertainty) to be Considered for Discussion by the DAPs—Dr. Richard Appeldoorn

—Expected Outcomes for Submission to the SSC and the CFMC—Dr. Richard Appeldoorn

—Quality of Information

—Year Sequences

—Life History Parameters

—Buffers Between ABCs and ACLs

10:30 a.m.—Coffee Break

10:45 a.m.-12 noon

Separate Meetings of Each DAP

—Year Sequences

—Recommended Buffers Between ABC and ACL

12 p.m.-1:30 p.m.—Lunch Break

1:30 p.m.-3:30 p.m.

DAPs Continuation of Morning Discussions

3:30 p.m.-4:30 p.m.

Reports by DAPs Chairs on DAPs Discussions and Recommendations

—Conclusion and Recommendations to CFMC

4:30 p.m.-5 p.m.

—Other Business

The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: June 20, 2017.
Tracey L. Thompson,
Acting Deputy Director, Office of Sustainable Fisheries, National Marine Fisheries Service.

[FR Doc. 2017-13151 Filed 6-22-17; 8:45 am]

BILLING CODE 3510-22-P